DEPARTMENT OF DEFENSE

Department of the Navy

[USN-2006-0070]

Privacy Act of 1974; System of Records

AGENCY: Department of the Navy.

ACTION: Notice to alter a system of records.

SUMMARY: The Department of the Navy proposes to alter a system of records notice in its existing inventory of records systems subject to the Privacy Act of 1974, (5 U.S.C. 552a), as amended.

DATES: This proposed action will be effective without further notice on February 7, 2007, unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's systems of records notices subject to the Privacy Act of 1974, (5 U.S.C. 552a), as amended, have been published in the Federal Register and are available from the address above.

The proposed system reports, as required by 5 U.S.C. 552a (r), of the Privacy Act of 1974, as amended, were submitted on December 28, 2006, to the House Committee on Government Reform, the Senate Committee on Homeland Security and Governmental Affairs, and the Office of Management and Budget (OMB) pursuant to paragraph 4c of Appendix I to OMB Circular No. A-130, Federal Agency Responsibilities for Maintaining Records About Individuals,’ dated February 8, 1996 (February 20, 1996, 61 FR 6427).

Dated: December 29, 2006.
L.M. Bynum,
Alternate OSD Federal Register Liaison Officer, Department of Defense.

N12771-1

System name:

Employee Grievances, Discrimination Complaints, and Adverse Action Appeals. (August 9, 1993, 58 FR 42303)

Changes:

System identifier:

Delete “N12771-1” and replace with “NM12771-1.”

System name:

Delete entry and replace with “Discrimination Complaints.”

System location:

Delete entry and replace with “Naval Office of EEO Complaints and Adjudication (NAVOECMA), 614 Sicard Street, SE, Suite 100, Washington Navy Yard, DC 20374-5072; field activities employing civilians and servicing Human Resources Offices (HROs). Official mailing addresses are published in the Standard Navy Distribution List that is available at http://doni.daps.dla.mil/sndl.aspx.”

Categories of individuals covered by the system:

Before the word “applicants” add “civilian.”

Categories of records in the system:

Delete entry and replace with “The case files contain background material on the act or situation complained of; the results of any investigation including affidavits and depositions; records of personnel actions involved; transcripts of hearings held; administrative judges' reports of findings and recommended actions; advisory memoranda from the Chief of Naval Operations, Chief of Naval Personnel, Department of Defense, Systems Commands; Secretary of the Navy decisions; reports of actions taken by local activities; comments by NAVOECMA or local activities on appeals made to the Equal Employment Opportunity Commission (EEOC); EEOC decisions, Court decisions, Comptroller General decisions. Brief summaries of case files are maintained in a computer data base.”

Authority for maintenance of the system:

Delete entry and replace with “5 U.S.C. 1301, 3301, 3302, 7201-7204, 7301, 7701; 10 U.S.C. 5013, Secretary of the Navy; and 10 U.S.C. 5041, Headquarters, Marine Corps.”

Purpose(s):

Delete entry and replace with “This information is used by NAVOECMA to adjudicate cases. Systems Commands, the Chief of Naval Operations, and the Office of Civilian Resources (OCHR) are internal users for informational/ implementational purposes. Individual members acting on behalf of the individual involved are supplied with copies of decisions and other appropriate background material. Grievants and appellants are furnished Secretary of the Navy decisions, with copies to their representatives, EEO complainants are furnished Secretary of the Navy (SECNAV) decisions, with copies of the hearing transcripts and administrative judges' reports; complainants' representatives are provided copies of SECNAV decisions on grievances and appeals. Activities involved in EEO complaints are provided copies of SECNAV decisions, hearing transcripts, and administrative judges' reports.”

* * * * *

Storage:

Delete entry and replace with “Records are stored on paper and on electronic storage media.”

* * * * *

Safeguards:

Delete entry and replace with “Materials are kept in file cabinets within NAVOECMA's office or in a secured computer data base. Access to the office during business hours is controlled by NAVOECMA personnel and by identification card. The office is locked at the close of business; the building in which the office is located employs security guards.”

Retention and disposal:

Delete entry and replace with “Case files are destroyed four years after being closed.”

System manager(s) and address:

Delete entry and replace with “Director, Naval Office of EEO Complaints and Adjudication (NAVOECMA), 614 Sicard Street, SE, Suite 100, Washington Navy Yard, DC 20374-5072.”

Notification procedure:

Delete entry and replace with “Individuals seeking to determine whether this system contains information about themselves should address written inquiries to the Director, Naval Office of EEO Complaints and Adjudication (NAVOECMA), 614 Sicard Street, SE, Suite 100, Washington Navy Yard, DC 20374-5072.

The requester must provide full name, employing office, and sign the request.”

Record access procedures:

Delete entry and replace with “Individuals seeking access to information about themselves contained in this system should address written inquiries to the Director, Naval Office of EEO Complaints and Adjudication (NAVOECMA), 614 Sicard Street, SE, Suite 100, Washington Navy Yard, DC 20374-5072.

The requester must provide full name, employing office, and sign the request.”

* * * * *

Record source categories:

Delete entry and replace with “Information in the file is obtained from former and present civilian employees of the DON, applicants for employment with the DON, employing activities, EEOC, and NAVOECMA.”

* * * * *

NM12771-1

System name:

Discrimination Complaints.

System location:

Naval Office of EEO Complaints and Adjudication (NAVOECMA), 614 Sicard Street, SE., Suite 100, Washington Navy Yard, DC 20374-5072; field activities employing civilians and servicing Human Resources Offices (HROs). Official mailing addresses are published in the Standard Navy Distribution List that is available at http://doni.daps.dla.mil/sndl.aspx.

Categories of individuals covered by the system:

Former and present civilian employees of the Department of the Navy, and civilian applicants for employment with the Department of the Navy.

Categories of records in the system:

The case files contain background material on the act or situation complained of; the results of any investigation including affidavits and depositions; records of personnel actions involved; transcripts of hearings held; administrative judges' reports of findings and recommended actions; advisory memoranda from the Chief of Naval Operations, Chief of Naval Personnel, Department of Defense, Systems Commands; Secretary of the Navy decisions; reports of actions taken by local activities; comments by NAVOECMA or local activities on appeals made to the Equal Employment Opportunity Commission (EEOC); EEOC decisions, Court decisions, Comptroller General decisions. Brief summaries of case files are maintained in a computer data base.

Authority for maintenance of the system:

5 U.S.C. 1301, 3301, 3302, 7201-7204, 7301, 7701; 10 U.S.C. 5013, Secretary of the Navy; and 10 U.S.C. 5041, Headquarters, Marine Corps.

Purpose(s):

This information is used by NAVOECMA to adjudicate cases. Systems Commands, the Chief of Naval Operations, and the Office of Civilian Resources (OCHR) are internal users for informational/implementational purposes. Individual members acting on behalf of the individual involved are supplied with copies of decisions and other appropriate background material. EEO complainants are furnished Secretary of the Navy (SECNAV) decisions, with copies of the hearing transcripts and administrative judges' reports; complainants' representatives are provided copies of SECNAV decisions on grievances and appeals. Activities involved in EEO complaints are provided copies of SECNAV decisions, hearing transcripts, and administrative judges' reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of the Equal Employment Opportunity Commission to adjudicate cases.

The DoD ‘Blanket Routine Uses’ that appear at the beginning of the Navy's compilation of systems of records notices apply to this system.

Note: Records of identity, diagnosis, prognosis or treatment of any client/patient, irrespective of whether or when he/she ceases to be a client/patient, maintained in connection with the performance of any alcohol or drug abuse prevention and treatment function conducted, requested, or directly or indirectly assisted by any department or agency of the United States, shall, except as provided herein, be confidential and be disclosed only for the purposes and under the circumstances expressly authorized in 42 U.S.C. 290dd-2. These statutes take precedence over the Privacy Act of 1974 in regard to accessibility of such records except to the individual to whom the report pertains. The DoD ‘Blanket Routine Uses’ that appear at the beginning of the Navy's compilation of systems of records notices do not apply to these records.

Policies and practices for storing, retrieving, accessing, retaining, and disposing of records in the system:

Storage:

Records are stored on paper and on electronic storage media.

Retrievability:

Name.

Safeguards:

Materials are kept in file cabinets within NAVOECMA's office or in a secured computer data base. Access to the office during business hours is controlled by NAVOECMA personnel and by identification card. The office is locked at the close of business; the building in which the office is located employs security guards.

Retention and disposal:

Case files are destroyed four years after being closed.

System manager(s) and address:

Director, Naval Office of EEO Complaints and Adjudication (NAVOECMA), 614 Sicard Street, SE., Suite 100, Washington Navy Yard, DC 20374-5072.

Notification procedure:

Individuals seeking to determine whether this system contains information about themselves should address written inquiries to the Director, Naval Office of EEO Complaints and Adjudication (NAVOECMA), 614 Sicard Street, SE., Suite 100, Washington Navy Yard, DC 20374-5072.

The requester must provide full name, employing office, and sign the request.

Record access procedures:

Individuals seeking access to records about themselves should address written inquiries from former and present civilian employees of the DON, applicants for employment with the DON, employing activities, EEOC, and NAVOECMA.

The requester must provide full name, employing office, and sign the request.

Contesting record procedures:

The Navy's rules for accessing records, and for contesting contents and appealing initial agency determinations are published in Secretary of the Navy Instruction 5211.5; 32 CFR part 701; or may be obtained from the system manager.

Record source categories:

Information in the file is obtained from former and present civilian employees of the DON, applicants for employment with the DON, employing activities, EEOC, and NAVOECMA.

Exemptions claimed for the system:

None.

[FR Doc. E7-12 Filed 1-5-07; 8:45 am]

BILLING CODE 5001-06-P